DEPARTMENT OF ENERGY

Office of Energy Efficiency and Renewable Energy

Notice of the Carbon Sequestration—Geothermal Energy—Science Joint Workshop

AGENCY: Office of Energy Efficiency and Renewable Energy, DOE.

ACTION: Notice of the Carbon Sequestration—Geothermal Energy—Science Joint Workshop.

SUMMARY: The DOE Geothermal Technologies Program, Office of Science-Geosciences Program and Office of Fossil Energy-Carbon Sequestration Program will be holding a joint workshop on Common Research Themes for Carbon Storage and Geothermal Energy, June 15-16, 2010. Experts from industry, academia, national labs, and State and Federal geological surveys will discuss geosciences research needs for subsurface reservoir characterization, development, and management. The resulting report will provide the collaborating offices with information key to coordinating high priority research in common areas. Further information, including the final report, when available, can be found on the Geothermal Technologies Program Web site— http://www.geothermal.energy.gov.

DATES: The Carbon Sequestration—Geothermal Energy—Science Joint Workshop will be held June 15, 2010, from 7:30 a.m.-7:30 p.m. EDT and June 16, 2010, from 7:30 a.m.-7:30 p.m. EDT.

ADDRESSES: The Carbon Sequestration—Geothermal Energy—Science Joint Workshop Conference will be held at the Hilton Washington, DC/Rockville Executive Meeting Center, 1750 Rockville Pike, in Rockville, MD.

FOR FURTHER INFORMATION CONTACT: Alison LaBonte, AAAS Science and Technology Policy Fellow, via e-mail at alison.labonte@ee.doe.gov. Further information on DOE's Geothermal Technologies Program can be viewed at http://www.geothermal.energy.gov/.

SUPPLEMENTARY INFORMATION: Advance registration is required. If you would like to register, please contact Lee-Ann Talley via e-mail at Lee-Ann.Talley@orise.orau.gov.

Issued in Washington, DC, on June 9, 2010.
Steven Chalk,
Chief Operating Officer, Office of Energy Efficiency and Renewable Energy, U.S. Department of Energy.

[FR Doc. 2010-14257 Filed 6-11-10; 8:45 am]

BILLING CODE 6450-01-P